DEPARTMENT OF THE INTERIOR

Bureau of Indian Affairs

Protection and Restoration of Tribal Homelands

AGENCY: Office of the Secretary, Interior.

ACTION: Notice of Tribal consultation sessions.

SUMMARY: The Department invites representatives of federally recognized Tribes to consult on several topics related to the protection and restoration of Tribal homelands, including but not limited to: the land-into-trust process, leasing and rights-of-way, and sacred sites and treaty rights.

DATES: Please see the SUPPLEMENTARY INFORMATION section of this notice for dates of the sessions. Tribes are also invited to submit written input by 11:59 p.m. ET, Friday, November 5, 2021.

ADDRESSES: Please see the SUPPLEMENTARY INFORMATION section of this notice for links to register for each of the sessions. Tribes are also invited to submit written input to consultation@bia.gov.

FOR FURTHER INFORMATION CONTACT: Elizabeth Appel, Director, Office of Regulatory Affairs & Collaborative Action—Indian Affairs, (202) 273-4680, or elizabeth.appel@bia.gov.

SUPPLEMENTARY INFORMATION:

Background

Protecting and restoring Tribal homelands is a key priority of the Department. While the importance of Tribal homelands undoubtedly touches upon many facets critical to Tribal sovereignty and self-determination, the consultation will focus on three specific topics: The land-into-trust process; leasing and rights-of-way; and sacred sites and treaty rights. As a starting point to facilitate discussion, the Department poses the questions stated below and organized by topic. The Department also welcomes additional comments and suggestions from Tribes beyond the questions listed.

A. Land-Into-Trust Process

1. Does the Department's land-into-trust process adequately allow Tribes to consolidate landholdings in or near existing reservations?

2. Does the Department's land-into-trust process adequately allow Tribes to establish homelands for landless Tribes?

3. How can the Department improve its land-into-trust process to facilitate protection of sacred sites, conservation, and the exercise of civil and criminal jurisdiction?

4. For Tribes in Alaska, how should the Department approach the land-into-trust process to adequately account for factors that are unique to Alaska?

B. Leasing and Rights-of-Way

5. Are the Department's existing regulations governing agricultural leasing on Indian lands adequate to protect the interests of Tribes and Indian landowners?

6. Are any changes needed to the Department's leasing and rights-of-way procedures to clarify taxing jurisdiction in Indian country and to promote economic development in Indian country?

C. Sacred Sites and Treaty Rights

7. What steps can the Department take to ensure that Tribes have the ability to protect their sacred places and access those sites to exercise religious rights?

8. What steps can the Department take to protect the exercise of off-reservation treaty rights, including habitat for treaty resources?

9. What actions can the Department take in relation to other agencies to ensure the protection of sacred sites and treaty rights?

D. Overall

10. What is the most pressing need for protection and restoration of Tribal homelands that the Assistant Secretary—Indian Affairs can help address?

Tribal Consultation Sessions

To best accommodate Tribes' locations and ensure everyone's safety, we will be holding virtual sessions scheduled by time zone. Any Tribal leader unable to make the session reserved for the time zone in which his or her Tribe is located is welcome to join an alternate session.

• For Tribes in the Alaska Time Zone:

○ Monday, October 18, 2021

○ 10 a.m.-12 p.m. ADT

○ Please register in advance at: https://www.zoomgov.com/meeting/register/vJItc-yopjoqHFybM7shIc8K5hb8oa0FJB4

• For Tribes in the Eastern and Central Time Zones:

○ Thursday, October 21, 2021

○ 2 p.m.-4 p.m. EDT/1 p.m.-3 p.m. CDT

○ Please register in advance at: https://www.zoomgov.com/meeting/register/vJIscO6hpzwoHyTxxS4siXAZfsSB5ZixZRI

• For Tribes in the Mountain Daylight Time Zone:

○ Monday, October 25, 2021

○ 1 p.m.-3 p.m. MDT

○ Please register in advance at: https://www.zoomgov.com/meeting/register/vJIsduiuqjgsH74MwjdZpgw9uaCJVD_Uu_Y

• For Tribes in the Pacific and Mountain Standard Time Zones:

○ Tuesday, October 26, 2021

○ 10 a.m.-12 p.m. PDT

○ Please register in advance at: https://www.zoomgov.com/meeting/register/vJItd-qvqT4rGagVja9wUUoFds41BDPgMYc

Bryan Newland,
Assistant Secretary, Indian Affairs.

[FR Doc. 2021-19846 Filed 9-14-21; 8:45 am]

BILLING CODE 4337-15-P